DEPARTMENT OF THE INTERIOR

Fish and Wildlife Service

Availability of argali (Ovis ammon) Status Report for the Republic of Tajikistan

AGENCY: Fish and Wildlife Service.

ACTION: Notice of the availability of the contract report “Current Population Status of the Parmir Arhar (argali) in Tajikistan.”

SUMMARY: The U.S. Fish and Wildlife Service (Service) announces the availability of a report titled “Current Population Status of the Pamir Arhar (Argali) in Tajikistan”. This work is part of the continuing evaluation by the Service of the populations of argali in accordance with the species' listing under the U.S. Endangered Species Act. The Service is making copies of the report available to the public for informational purposes.

DATES: The Service will accept requests to obtain a photocopy of the report for 60 days after April 11, 2000.

ADDRESSES: Send your requests to the Chief, Branch of Permits, Office of Management Authority, U.S. Fish and Wildlife Service, 4401 N. Fairfax Drive, Room 700, Arlington, Virginia 22203. You may also send your request by fax to Room 700, Arlington, Virginia 22203. You may also send your request by fax to (703) 358-2281, to the attention of Mike Carpenter.

FOR FURTHER INFORMATION CONTACT: Mike Carpenter, Office of Management Authority, telephone (703) 358-2104 or fax (703) 358-2281, (see ADDRESSES section)

SUPPLEMENTARY INFORMATION: In 1999 the Service contracted with Dr. A. K. Fedosenko of the Department of Conservation and Rational Use of Game Resources of the Russian Federation to conduct a survey of the argali (Ovis ammon polii) population in the eastern portion of the Republic of Tajikistan. This survey is part of the continuing review of the status of populations of argali (Ovis ammon) listed as threatened under the Endangered Species Act and effected by the Special Rule at 50 CFR 17.40(j). The present report is a continuation of the 1994 status review of the threatened argali populations completed for the Service by Dr. Anna Lushchekina and Dr. Fedosenko and presents the results of the 1999 survey in the same context as the previous data for the area.

Dated: April 5, 2000.
Kristen Nelson,
Chief, Branch of Permits, Office of Management Authority.

[FR Doc. 00-8888 Filed 4-10-00; 8:45 am]

BILLING CODE 4310-55-P